DEPARTMENT OF THE INTERIOR

Bureau of Land Management

[LLNV952000 L14400000.BJ0000.LXSSF2210000.241A; 13-08807; MO# 4500080175; TAS: 15X1109]

Filing of Plats of Survey; NV

AGENCY: Bureau of Land Management, Interior.

ACTION: Notice.

SUMMARY: The purpose of this notice is to inform the public and interested State and local government officials of the filing of Plats of Survey in Nevada.

DATES: Unless otherwise stated filing is effective at 10 a.m. on the dates indicated below.

FOR FURTHER INFORMATION CONTACT: Michael O. Harmening, Chief, Branch of Geographic Sciences, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: 1. The Plat of Survey of the following described lands was officially filed at the Bureau of Land Management (BLM) Nevada State Office, Reno, Nevada on January 12, 2015:

The plat, in 1 sheet, representing the dependent resurvey of a portion of Mineral Survey No. 1905, in Township 6 South, Range 70 East, Mount Diablo Meridian, under Group No. 931, was accepted January 12, 2015. This survey was executed to meet certain administrative needs of the Bureau of Land Management.

2. The Plat of Survey of the following described lands was officially filed at the BLM Nevada State Office, Reno, Nevada on March 2, 2015:

The plat, in 1 sheet, representing the dependent resurvey of a portion of the subdivisional lines, Mineral Survey No. 3808, and portions of Mineral Survey No. 3961, in Township 46 North, Range 39 East, of the Mount Diablo Meridian, Nevada, under Group No. 939, was accepted March 2, 2015. This survey was executed to meet certain administrative needs of the Bureau of Land Management.

3. The Plat of Survey of the following described lands was officially filed at the BLM Nevada State Office, Reno, Nevada on April 8, 2015:

The plat, in 2 sheets, representing the retracement of a portion of the south boundary, a portion of the subdivisional lines, the subdivision of sections 29 and 32, and metes-and-bounds surveys, in Township 6 South, Range 61 East, of the Mount Diablo Meridian, Nevada, under Group No. 925, was accepted April 8, 2015. This survey was executed to meet certain administrative needs of the Bureau of Land Management.

4. The Plat of Survey of the following described lands was officially filed at the BLM Nevada State Office, Reno, Nevada on April 8, 2015:

The plat, in 1 sheet, representing the dependent resurvey of a portion of the subdivisional lines, and the subdivision of section 5, in Township 7 South, Range 61 East, of the Mount Diablo Meridian, Nevada, under Group No. 934, was accepted April 8, 2015. This survey was executed to meet certain administrative needs of the Bureau of Land Management.

5. The Plat of Survey of the following described lands was officially filed at the BLM Nevada State Office, Reno, Nevada on April 9, 2015:

The plat, in 2 sheets, representing the dependent resurvey of a portion of the south boundary, a portion of the subdivisional lines, the subdivision of section 36 and a metes-and-bounds survey in section 36, in Township 21 South, Range 63 East, of the Mount Diablo Meridian, Nevada, under Group No. 940, was accepted April 9, 2015. This survey was executed to meet certain administrative needs of the Bureau of Land Management.

The surveys listed above are now the basic record for describing the lands for all authorized purposes. These records have been placed in the open files in the BLM Nevada State Office and are available to the public as a matter of information. Copies of the surveys and related field notes may be furnished to the public upon payment of the appropriate fees.

Dated: June 8, 2015.
Michael O. Harmening,
Chief Cadastral Surveyor, Nevada.

[FR Doc. 2015-14431 Filed 6-11-15; 8:45 am]

BILLING CODE 4310-HC-P